DEPARTMENT OF JUSTICE

Notice of Lodging of Consent Decree Under the Comprehensive Environmental Response, Compensation, and Liability Act of 1980 (“CERCLA”)

Under 28 CFR 50.7, the United States hereby give notice that on November 14, 2002, a proposed Consent Decree (“Decree”) in United States of America v. Kennecott Holdings Corporation, (formerly Kennecott Corporation) and Kennecott Utah Copper Corporation, Civil Action No. 2:02-CV-1228 (DAK) was lodged with the United States District Court for the District of Utah, Central Division.

In this action the United States sought to resolve claims against Kennecott under sections 106 and 107 of CERCLA concerning mining-related surface contamination of soils and sediments in three operable units (“OUs”) of the “Kennecott South Zone Site” located in the southwest portion of Salt Lake County, Utah. The Decree requires Kennecott to perform certain operation and maintenance activities concerning two of the OUs, and to reimburse EPA $307,545.64.

The Department of Justice will receive for a period of thirty (30) days from the date of this publication comments relating to the Decree. Comments should be addressed to the Assistant Attorney General, Environment and Natural Resources Division, P.O. Box 7611, U.S. Department of Justice, Washington, DC 20044-7611, and should refer to United States v. Kennecott Holdings Corp. et al., D.J. Ref. 90-11-2-07195/1.

The Decree may be examined at the Office of the United States Attorney, 185 South State Street, Suite 400, Salt Lake City, Utah 84111, and at U.S. EPA Region VIII, 999 18th Street, Suite 300, Denver, Colorado 80202. A copy of the Decree may also be obtained by mail from the Consent Decree Library, P.O. Box 7611, U.S. Department of Justice, Washington, DC 20044-7611 or by faxing a request to Tonia Fleetwood, fax no. (202) 514-0097, phone confirmation no. (202) 514-1457. In requesting a complete copy of the decree with exhibits, please enclose a check in the amount of $17.00 (68 pages at 25 cents per page reproduction cost) or for a copy of the decree only, please enclose a check in the amount of $7.00 (28 pages at 25 cents per page reproduction cost) payable to the U.S. Treasury.

Robert Brook,
Assistant Section Chief, Environmental Enforcement Section, Environment and Natural Resources Division.

[FR Doc. 02-31246 Filed 12-10-02; 8:45 am]

BILLING CODE 4416-15-M